NUCLEAR REGULATORY COMMISSION

10 CFR Part 72

[NRC-2011-0002]

RIN 3150-AI89

List of Approved Spent Fuel Storage Casks: NUHOMS® HD System Revision 1; Confirmation of Effective Date

AGENCY: Nuclear Regulatory Commission.

ACTION: Direct final rule: Confirmation of effective date.

SUMMARY: The U.S. Nuclear Regulatory Commission (NRC or the Commission) is confirming the effective date of March 29, 2011, for the direct final rule that was published in the Federal Register on January 13, 2011 (76 FR 2243). This direct final rule amended the NRC's spent fuel storage regulations at Title 10 of the Code of Federal Regulations (10 CFR 72.214) to revise the NUHOMS® HD System listing to include Amendment Number 1 to Certificate of Compliance (CoC) Number 1030.

DATES: Effective Date: The effective date of March 29, 2011, is confirmed for this direct final rule.

ADDRESSES: Documents related to this rulemaking, including any comments received, may be examined at the NRC Public Document Room, Room O-1F21, 11555 Rockville Pike, One White Flint North, Rockville, Maryland 20852.

FOR FURTHER INFORMATION CONTACT: Gregory Trussell, Office of Federal and State Materials and Environmental Management Programs, U.S. Nuclear Regulatory Commission, Washington, DC 20555-0001, telephone: 301-415-6445, e-mail: Gregory.Trussell@nrc.gov.

SUPPLEMENTARY INFORMATION: On January 13, 2011 (76 FR 2243), the NRC published a direct final rule amending its regulations at 10 CFR 72.214 to include Amendment No. 1 to CoC No. 1030. Amendment No. 1 will revise the definitions for Damaged Fuel Assembly and Transfer Operations; add definitions for Fuel Class and Reconstituted Fuel Assembly; add Combustion Engineering 16x16 class fuel assemblies as authorized contents; reduce the minimum off-normal ambient temperature from −20 °F to −21 °F; expand the authorized contents of the NUHOMS® HD System to include pressurized water reactor fuel assemblies with control components; reduce the minimum initial enrichment of fuel assemblies from 1.5 weight percent uranium-235 to 0.2 weight percent uranium-235; clarify the requirements of reconstituted fuel assemblies; add requirements to qualify metal matrix composite neutron absorbers with integral aluminum cladding; clarify the requirements for neutron absorber tests; delete use of nitrogen for draining the water from the dry shielded canister (DSC), and allow only helium as a cover gas during DSC cavity water removal operations; and make corresponding changes to the technical specifications. In the direct final rule, NRC stated that if no significant adverse comments were received, the direct final rule would become final on March 29, 2011.

The NRC did not receive any comments on the direct final rule. Therefore, this rule will become effective as scheduled.

Dated at Rockville, Maryland, this 3rd day of March 2011.
For the Nuclear Regulatory Commission.
Cindy Bladey,
Chief, Rules, Announcements, and Directives Branch, Division of Administrative Services, Office of Administration.

[FR Doc. 2011-5346 Filed 3-8-11; 8:45 am]

BILLING CODE 7590-01-P